DEPARTMENT OF COMMERCE

International Trade Administration

North American Free Trade Agreement, Article 1904; NAFTA Panel Reviews; Response to Request for Panel Review

AGENCY: NAFTA Secretariat, United States Section, International Trade Administration, Department of Commerce.

ACTION: Panel Review Precluded.

SUMMARY: Notice of the Department of Commerce's final determination regarding steel concrete reinforcing bar from Mexico was published in the Federal Register on September 15, 2014 (79 FR 54967) (final determination). On October 16, 2014, Grupo Simec, Orge S.A. DE C.V., and Orge S.A. DE C.V. (Simec) made a request for panel review of the final determination with the United States Section of the North American Free Trade Agreement (NAFTA) Secretariat. A Notice of First Request for Panel Review was published in the Federal Register on October 24, 2014 (79 FR 63600). Pursuant to Article 1904 of the NAFTA, a panel was not established and Simec subsequently withdrew its request for panel review with the United States Section of the NAFTA Secretariat on May 19, 2015. Based on the facts stated above, the Notice of First Request for Panel Review (79 FR 63600) is rendered moot.

FOR FURTHER INFORMATION CONTACT: Paul E. Morris, United States Secretary, NAFTA Secretariat, 1401 Constitution Avenue NW., Room 2061, Washington, DC 20230, (202) 482-5438.

Dated: May 22, 2015.
Paul E. Morris,
United States Secretary, NAFTA Secretariat.

[FR Doc. 2015-12981 Filed 5-28-15; 8:45 am]

BILLING CODE 3510-DS-P